DEPARTMENT OF COMMERCE

Census Bureau

Agency Information Collection Activities; Submission to the Office of Management and Budget (OMB) for Review and Approval; Comment Request; High-Frequency Surveys Program/Household Trends and Outlook Pulse Survey (HTOPS)

On July 22, 2024, the Department of Commerce received clearance from the Office of Management and Budget (OMB) in accordance with the Paperwork Reduction Act of 1995 to conduct Phase 4.2 of the Household Pulse Survey (OMB No. 0607-1029, Exp. 01/31/27) and on July 12, 2024, clearance was received to conduct the tenth, eleventh, and twelfth Census Household Panel topical operations (OMB No. 0607-1025, Exp. 6/30/26). Clearance for the Household Trends and Outlook Pulse Survey (HTOPS) recruitment operation, January topical operation and February topical operation (0607-1029) was approved by OMB on January 15, 2025, and we received approval for the March, April, and May HTOPS collections on April 11, 2025. The HTOPS is designed to ensure the availability of frequent data collection for nationwide estimates on a variety of topics for a variety of subgroups of the population. This notice serves to inform you of the Department's intent to request clearance from OMB to conduct the HTOPS June and August data collections. The HTOPS program will not collect data in July to allow for operational updates to our systems and processes. The June and August topical surveys will include content from the Household Pulse Survey. Household Pulse Survey content continues to serve as an experimental endeavor in cooperation with other federal agencies to produce near real-time data to understand the effects of current events, including health events, and other social or economic events facing the nation or a significant portion of the nation. The June content will focus on economic issues and events and the August issue will have health-focused content.

Data collected in the Household Pulse Survey demonstrate the ability to quickly collect and disseminate high-frequency data products that inform the public in urgent circumstances. Data products will include public-use data files and detailed data tables, which can be used by federal, state, and local agencies; academic and non-government organizations; the media; and the public.

It is the Department's intention to commence data collection using the revised instruments on or about June 17, 2025, and August 19, 2025. We invite the general public and other Federal agencies to comment on proposed and continuing information collections, which helps us assess the impact of our information collection requirements and minimize the public's reporting burden. Public comments were previously requested via publication to the Federal Register on December 9, 2024, and February 28, 2025 (OMB No. 0607-1029) during a 30-day comment period. This notice allows for an additional 30 days for public comments.

Agency: U.S. Census Bureau.

Title: High Frequency Surveys Program/Household Trends and Outlook Pulse Survey.

OMB Control Number: 0607-1029.

Form Number(s): None.

Type of Request: Regular submission, Request for a Revision of a Currently Approved Collection.

Number of Respondents: 16,000 (192,000 annually).

Average Hours per Response: .333 (20 minutes).

Burden Hours: 5,328 (62,936 annually).

Needs and Uses: The High-Frequency Surveys Program was established as a natural progression from the creation of the Household Pulse Survey. The Household Trends and Outlook Pulse Survey is a probability-based nationwide nationally representative survey panel designed to test methods to collect data on a variety of topics of interest, and for conducting experimentation on alternative question wording and methodological approaches. The goal of the HTOPS is to ensure availability of frequent data collection for nationwide estimates on a variety of topics and a variety of subgroups of the population, meeting standards for transparent quality reporting of the Federal Statistical Agencies and the Office of Management and Budget.

Panelists and households selected for the HTOPS were recruited from the Census Bureau's gold standard Master Address File. This ensures that HTOPS is rooted in this rigorously developed and maintained frame and available for linkage to administrative records securely maintained and curated by the Census Bureau. Invitations to complete the monthly surveys will be sent via email and SMS messages. Questionnaires will be mainly internet self-response. The HTOPS will maintain representativeness by allowing respondents who do not use the internet to respond via computer-assisted telephone interviewing (CATI). All panelists will receive an incentive for each complete questionnaire. Periodic replenishment samples will maintain representativeness and panelists will be replaced after a period of three years.

Affected Public: Households.

Frequency: Monthly.

Respondent's Obligation: Voluntary.

Legal Authority: Title 13, United States Code, sections 141, 182 and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1029.

Sheleen Dumas,
Departmental PRA Compliance Officer, Office of the Under Secretary for Economic Affairs, Commerce Department.

[FR Doc. 2025-08397 Filed 5-12-25; 8:45 am]

BILLING CODE 3510-07-P